DEPARTMENT OF TRANSPORTATION

Federal Aviation Administration

14 CFR Part 39

[Docket No. FAA-2012-0183; Directorate Identifier 2011-NM-131-AD; Amendment 39-17328; AD 2013-02-07]

RIN 2120-AA64

Airworthiness Directives; The Boeing Company Airplanes

AGENCY: Federal Aviation Administration (FAA), DOT.

ACTION: Final rule.

SUMMARY: We are adopting a new airworthiness directive (AD) for certain The Boeing Company Model 737-600, -700, -700C, -800, -900, and -900ER series airplanes. This AD was prompted by reports from the manufacturer that center overhead stowage (COS) boxes could fall from their supports under forward load levels less than the 9 g forward load requirements as defined by certain regulations. This AD requires modifying COS boxes by installing new brackets, stiffeners, and hardware as needed. We are issuing this AD to prevent detachment of COS boxes at forward load levels less than 9 g during an emergency landing, which would cause injury to passengers and/or crew, and could impede subsequent rapid evacuation.

DATES: This AD is effective March 6, 2013.

The Director of the Federal Register approved the incorporation by reference of a certain publication listed in the AD as of March 6, 2013.

ADDRESSES: For service information identified in this AD, contact Boeing Commercial Airplanes, Attention: Data & Services Management, P.O. Box 3707, MC 2H-65, Seattle, WA 98124-2207; telephone 206-544-5000, extension 1; fax 206-766-5680; Internet https://www.myboeingfleet.com. You may review copies of the referenced service information at the FAA, Transport Airplane Directorate, 1601 Lind Avenue SW., Renton, WA. For information on the availability of this material at the FAA, call 425-227-1221.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Sarah Piccola, Aerospace Engineer, Cabin Safety and Environmental Systems Branch, ANM-150S, FAA, Seattle ACO, 1601 Lind Avenue SW., Renton, WA 98057-3356; phone: 425-917-6483; fax: 425-917-6590; email: sarah.piccola@faa.gov.

SUPPLEMENTARY INFORMATION:

Discussion

We issued a notice of proposed rulemaking (NPRM) to amend 14 CFR part 39 to include an AD that would apply to the specified products. That NPRM published in the Federal Register on February 27, 2012 (77 FR 11416). That NPRM proposed to require modifying COS boxes by installing new brackets, stiffeners, and hardware as needed.

Comments

We gave the public the opportunity to participate in developing this AD. The following presents the comments received on the proposal (77 FR 11416, February 27, 2012) and the FAA's response to each comment. United Airlines and two private citizens support the NPRM. Aviation Partners Boeing stated that the installation of winglets per Supplemental Type Certificate (STC) ST00830SE does not affect the actions specified in the NPRM or Boeing Special Attention Service Bulletin 737-25-1641, Revision 1, dated August 8, 2011.

Request To Revise the Compliance Time

American Airlines requested that we extend the compliance time in the NPRM (77 FR 11416, February 27, 2012) from 60 months to 72 months to align with the heavy maintenance program driven by the Model 737 Maintenance Review Board.

We do not agree with extending the compliance time to 72 months, because an operator has experienced an event where the COS box did not remain fully attached. An increase in compliance time is not in the interest of public safety. We have not changed the final rule regarding this issue. In developing an appropriate compliance time for this action, we considered the safety implications, parts availability, and normal maintenance schedules for the timely accomplishment of the modification. In consideration of these items, as well as the reports where the COS box did not remain fully attached, we have determined that a 60-month compliance time will ensure an acceptable level of safety and allow the modifications to be done during scheduled maintenance intervals for most affected operators. We have not changed the AD in this regard.

Request To Revise Language

Boeing requested that we clarify the language of the NPRM (77 FR 11416, February 27, 2012) and replace the words “other products of this same type design” in the paragraph “FAA's Determination,” with the words “the Boeing 737 Next Generation (737NG) airplane prior to L/N 3518 excluding Boeing Sky Interior (BSI).” Boeing considered the existing language too general and confusing for operators.

We disagree with changing the AD. This standard language contained under “FAA's Determination” is in all proposed airworthiness directives to show adherence to Part 39 of the Federal Aviation Regulations (14 CFR 39), and is not restated in the final rule.

Request To Revise Maximum Load

Arkefly Airlines suggested that Boeing give the option to reduce the maximum load to a load that would meet the 9 g requirement without modification. The commenter suggested this could be incorporated by installing a placard with the new (reduced) maximum load.

We disagree because the customer COS box configuration has already been taken into account. This AD addresses optional COS boxes. These boxes typically contain life rafts, palletized equipment, or miscellaneous equipment. Boeing based its original design on the customer configurations and has determined that the design does not meet the 9 g load requirement. We have not changed the AD in this regard.

Actions Since Previous NPRM (77 FR 11416, February 27, 2012) Was Issued

The previous NPRM (77 FR 11416, February 27, 2012) referred to Boeing Special Attention Service Bulletin 737-25-1641, Revision 1, dated August 8, 2011, as the appropriate source of service information for accomplishing the required actions. Since we issued the previous NPRM, we have reviewed Boeing Special Attention Service Bulletin 737-25-1641, Revision 2, dated November 20, 2012, which made minor changes to part numbering of materials; added no additional work required by Boeing Special Attention Service Bulletin 737-25-1641, Revision 1, dated August 8, 2011; and both added and deleted airplanes from Group 2 airplanes. The added airplanes are not in the U.S. registry. We revised paragraphs (c) and (g) of this AD to refer to Boeing Special Attention Service Bulletin 737-25-1641, Revision 2, dated November 20, 2012, and revised paragraph (h) to give credit for work performed before the effective date of the AD using Boeing Special Attention Service Bulletin 737-25-1641, Revision 1, dated August 8, 2011.

Conclusion

We reviewed the relevant data, considered the comments received, and determined that air safety and the public interest require adopting the AD with the changes described previously and minor editorial changes. We have determined that these minor changes:

• Are consistent with the intent that was proposed in the NPRM (77 FR 11416, February 27, 2012) for correcting the unsafe condition; and

• Do not add any additional burden upon the public than was already proposed in the NPRM (77 FR 11416, February 27, 2012).

Costs of Compliance

We estimate that this AD affects 526 airplanes of U.S. registry.

We estimate the following costs to comply with this AD:

Estimated Costs
Action | Labor cost | Parts cost | Cost per product | Cost on U.S. operators
Modification | 31 work-hours × $85 per hour = $2,635 | $6,118 | $8,753 | $4,604,078

According to the manufacturer, some of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2013-02-07 The Boeing Company: Amendment 39-17328; Docket No. FAA-2012-0183; Directorate Identifier 2011-NM-131-AD.

(a) Effective Date

This AD is effective March 6, 2013.

(b) Affected ADs

None.

(c) Applicability

This AD applies to The Boeing Company Model 737-600, -700, -700C, -800, -900, and -900ER series airplanes, certificated in any category, as identified in Boeing Special Attention Service Bulletin 737-25-1641, Revision 1, dated August 8, 2011, as revised by Boeing Special Attention Service Bulletin 737-25-1641, Revision 2, dated November 20, 2012.

(d) Subject

Joint Aircraft System Component (JASC)/Air Transport Association (ATA) of America Code 25: Equipment/Furnishings.

(e) Unsafe Condition

This AD was prompted by reports from the manufacturer that center overhead stowage (COS) boxes could fall from their supports under forward load levels less than the 9 g forward load requirements as defined by Federal Aviation Regulations. We are issuing this AD to prevent detachment of COS boxes at forward load levels less than 9 g during an emergency landing, which would cause injury to passengers and/or crew, and could impede subsequent rapid evacuation.

(f) Compliance

Comply with this AD within the compliance times specified, unless already done.

(g) Modification and Installation of COS Boxes

Within 60 months after the effective date of this AD, modify the COS boxes in accordance with the Accomplishment Instructions of Boeing Special Attention Service Bulletin 737-25-1641, Revision 2, dated November 20, 2012.

(h) Credit for Previous Actions

This paragraph provides credit for the modification required by paragraph (g) of this AD, if the modification was performed before the effective date of this AD using Boeing Special Attention Service Bulletin 737-25-1641, dated May 13, 2011, which is not incorporated by reference in this AD; or Boeing Special Attention Service Bulletin 737-25-1641, Revision 1, dated August 8, 2011.

(i) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Seattle Aircraft Certification Office, to make those findings.

(j) Related Information

(1) For more information about this AD, contact Sarah Piccola, Aerospace Engineer, Cabin Safety and Environmental Systems Branch, ANM-150S, FAA, Seattle ACO, 1601 Lind Avenue SW., Renton, WA 98057-3356; phone: 425-917-6483; fax: 425-917-6590; email: sarah.piccola@faa.gov.

(2) For service information identified in this AD, contact Boeing Commercial Airplanes, Attention: Data & Services Management, P.O. Box 3707, MC 2H-65, Seattle, Washington 98124-2207; telephone 206-544-5000, extension 1; fax 206-766-5680; Internet https://www.myboeingfleet.com.

(k) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Boeing Special Attention Service Bulletin 737-25-1641, Revision 1, dated August 8, 2011.

(ii) Boeing Special Attention Service Bulletin 737-25-1641, Revision 2, dated November 20, 2012.

(3) For The Boeing Company service information identified in this AD, contact Boeing Commercial Airplanes, Attention: Data & Services Management, P. O. Box 3707, MC 2H-65, Seattle, WA 98124-2207; telephone 206-544-5000, extension 1; fax 206-766-5680; Internet https://www.myboeingfleet.com.

(4) You may view this service information at FAA, Transport Airplane Directorate, 1601 Lind Avenue SW., Renton, Washington. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on January 18, 2013.
Michael Kaszycki,
Acting Manager, Transport Airplane Directorate, Aircraft Certification Service.

[FR Doc. 2013-01718 Filed 1-29-13; 8:45 am]

BILLING CODE 4910-13-P